DEPARTMENT OF AGRICULTURE

Agricultural Marketing Service

[Doc. No. AMS-FGIS-21-0033]

Grain Inspection Advisory Committee Meeting

AGENCY: Agricultural Marketing Service, USDA.

ACTION: Notice of Federal Advisory Committee meeting.

SUMMARY: Pursuant to the Federal Advisory Committee Act, this constitutes notice of the upcoming meeting of the Grain Inspection Advisory Committee (Advisory Committee). The Advisory Committee meets no less than once annually to advise the Secretary on the programs and services delivered by the Agricultural Marketing Service (AMS) under the U.S. Grain Standards Act. Recommendations by the Advisory Committee help AMS meet the needs of its customers, who operate in a dynamic and changing marketplace.

DATES: May 12, 2021, 11:00 a.m. to 5:00 p.m. Eastern & May 13, 2021, 11:00 a.m. to 5:00 p.m. Eastern.

Location: Virtual; Meeting information can be found at: https://www.ams.usda.gov/about-ams/facas-advisory-councils/giac.

FOR FURTHER INFORMATION CONTACT: Kendra Kline by phone at (202) 690-2410 or by email at Kendra.C.Kline@usda.gov.

SUPPLEMENTARY INFORMATION: The purpose of the Advisory Committee is to provide advice to AMS with respect to the implementation of the U.S. Grain Standards Act (7 U.S.C. 71-87k). Information about the Advisory Committee is available on the AMS website at https://www.ams.usda.gov/about-ams/facas-advisory-councils/giac.

The 2020 Advisory Committee meetings were cancelled due to COVID-19. Therefore, the agenda for the upcoming meeting will include updates on resolutions from the August 2019 meeting; a general program update; an update on AMS rulemaking activities; and discussions about the Corn Borer Certification Program, wheat standards, the Federal Grain Inspection Service/Food and Drug Administration memorandum of understanding on development of pre-approved reconditioning procedures for actionable lots, and falling number testing.

Public participation will be limited to written statements and interested parties who have registered to present comments orally to the Advisory Committee. If interested in submitting a written statement or presenting comments orally, please contact Kendra Kline at the telephone number or email address listed above. Opportunities to provide oral comments will be given in the order the requests to speak are received. The meeting will be open to the public.

Persons with disabilities who require alternative means of communication of program information or related accommodations should contact Kendra Kline at the telephone number or email listed above.

Date: April 19, 2021.
Cikena Reid,
USDA Committee Management Officer.

[FR Doc. 2021-08336 Filed 4-21-21; 8:45 am]

BILLING CODE P